DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Mexican Border Youth Survey (BYS)—New

Violence and substance abuse are a serious concern at places along the U.S.-Mexico border. Young people ages 18-25 are attracted to Mexico because alcohol is inexpensive and the drinking age is 18 rather than 21. SAMHSA's Center for Substance Abuse Prevention is planning to conduct surveys at five sites along the Texas-Mexico border to support development, implementation and assessment of enforcement and education programs to address underage and binge drinking related problems. This program replicates a project targeting underage and binge drinking that has been implemented in San Diego, California (“Operation Safe Crossing”), which has yielded successful outcomes, including a 26% reduction in youth crossing the border to drink alcohol.

The purpose of replicating the model in Texas is to test local adaptations of the program which includes surveys of youth crossing the U.S.-Mexico border. This effort uses the survey data to inform the public of problem behaviors specific to their local community and serves to develop community awareness and inform community interventions, such as underage curfews and enforcing bar closing hours. The data collected will be made available to local groups to assist in raising community awareness of youth drinking issues. It is expected that communities will use the information to tailor interventions to reduce youth drinking-associated problems.

The BYS is comprised of two surveys, which are conducted on Friday and Saturday of one randomly selected weekend each month in each site. All information is collected in an anonymous and confidential manner. One survey, the Mexican Entry Survey, interviews a sample of youths on their way into Mexico between 9 p.m. and 1 a.m. The other survey, the Mexican Exit Survey, includes those same youths returning from Mexico between midnight and 6 a.m. the next day and an independent sample of pedestrians and drivers (where many young drinkers drive rather than walk across the border). The Exit Survey includes a breath test. In addition, there will be a 1-time test of saliva to test reliability and validity of the collection and analysis process.

The total annual burden associated with this project across all sites is summarized in the table below.

Sample | Number of respondents | Responses/ respondent | Hours/ response | Total burden (hours)
Mexican Entry Survey:
—Entry Survey | 6,000 | 1 | .25 | 498
—Exit Survey | (6,000) | 1 | .083 | 498
Mexican Exit Survey, with breath or saliva test and pedestrians or drivers | 15,000 | 1 | .083 | 1,245
One-time Pilot Saliva Test in one location only | (100) | 2 | .050 | 10
Total | 21,000 |  |  | 3,253

Written comments and recommendations concerning the proposed information collection should be sent within 30 days of this notice to: Lauren Wittenberg, Human Resources and Housing Branch, Office of Management and Budget, New Executive Office Building, Room 10235, Washington, DC 20503.

Dated: August 23, 2001.
Richard Kopanda,
Executive Officer, SAMHSA.

[FR Doc. 01-22108 Filed 8-31-01; 8:45 am]

BILLING CODE 4162-20-P